DEPARTMENT OF TRANSPORTATION

Federal Aviation Administration

Agency Information Collection Activities: Requests for Comments; Clearance of Renewed Approval of Information Collection: General Operating and Flight Rules

AGENCY: Federal Aviation Administration (FAA), DOT.

ACTION: Notice and request for comments.

SUMMARY: In accordance with the Paperwork Reduction Act of 1995, FAA invites public comments about our intention to request the Office of Management and Budget (OMB) approval to revise a previously approved information collection. Part A of Subtitle VII of the Revised Title 49 U.S.C. authorizes the issuance of regulations governing the use of navigable airspace. Information is collected to determine compliance with Federal regulations. This revision addresses requirements from the Enhanced Flight Vision Systems (EFVS) Rule, RIN 2120-AJ94.

DATES: Written comments should be submitted by May 5, 2016.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street NW., Washington, DC 20503.

Public Comments Invited: You are asked to comment on any aspect of this information collection, including (a) whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

FOR FURTHER INFORMATION CONTACT: Ronda Thompson at (202) 267-1416, or by email at: Ronda.Thompson@faa.gov.

SUPPLEMENTARY INFORMATION:

OMB Control Number: 2120-0005.

Title: General Operating and Flight Rules.

Form Numbers: None.

Type of Review: Revision of an information collection.

Background: The Federal Register Notice with a 60-day comment period soliciting comments on the following collection of information was published on January 4, 2016 (81 FR 139). There were no comments. The reporting and recordkeeping requirements of Federal Aviation Regulation (FAR) Part 91, General Operating and Flight Rules, are authorized by Part A of Subtitle VII of the Revised Title 49 United States Code. FAR Part 91 prescribes rules governing the operation of aircraft (other than moored balloons, kites, rockets and unmanned free balloons) within the United States. The reporting and recordkeeping requirements prescribed by various sections of FAR Part 91 are necessary for FAA to assure compliance with these provisions.

Respondents: Approximately 21,200 airmen, state or local governments, and businesses.

Frequency: Information is collected on occasion.

Estimated Average Burden per Response: .5 hour.

Estimated Total Annual Burden: 235,183 hours.

Issued in Washington, DC, on March 30, 2016.
Ronda Thompson,
FAA Information Collection Clearance Officer, Performance, Policy & Records Management Branch, ASP-110.

[FR Doc. 2016-07781 Filed 4-4-16; 8:45 am]

BILLING CODE 4910-13-P